DEPARTMENT OF TRANSPORTATION

Federal Aviation Administration

14 CFR Part 39

[Docket No. FAA-2015-7777; Directorate Identifier 2015-CE-036-AD]

RIN 2120-AA64

Airworthiness Directives; B-N Group Ltd. Airplanes

AGENCY: Federal Aviation Administration (FAA), Department of Transportation (DOT).

ACTION: Notice of proposed rulemaking (NPRM).

SUMMARY: We propose to adopt a new airworthiness directive (AD) for B-N Group Ltd. Models BN-2, BN-2A, BN-2A-2, BN-2A-3, BN-2A-6, BN-2A-8, BN-2A-9, BN-2A-20, BN-2A-21, BN-2A-26, BN-2A-27, BN-2B-20, BN-2B-21, BN-2B-26, BN-2B-27, BN2A MK. III, BN2A MK. III-2, BN2A MK. III-3 BN2A, BN2B, and BN2A MKIII (all models on TCDS A17EU and A29EU) airplanes that would supersede AD 2007-06-06. This proposed AD results from mandatory continuing airworthiness information (MCAI) originated by an aviation authority of another country to identify and correct an unsafe condition on an aviation product. The MCAI describes the unsafe condition as cracks in the inner shell of certain pitot/static pressure heads. We are issuing this proposed AD to require actions to address the unsafe condition on these products.

DATES: We must receive comments on this proposed AD by February 8, 2016.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this proposed AD, contact Britten-Norman Aircraft Limited, Commodore House, Mountbatten Business Centre, Millbrook Road East, Southampton SO15 1HY, United Kingdom; telephone: +44 20 3371 4000; fax: +44 20 3371 4001; email: info@bnaircraft.com; Internet: http://www.britten-norman.com/customer-support/. You may review copies of the referenced service information at the FAA, Small Airplane Directorate, 901 Locust, Kansas City, Missouri 64106. For information on the availability of this material at the FAA, call (816) 329-4148.

Examining the AD Docket

You may examine the AD docket on the Internet at http://www.regulations.gov by searching for and locating Docket No. FAA-2015-7777; or in person at the Docket Management Facility between 9 a.m. and 5 p.m., Monday through Friday, except Federal holidays. The AD docket contains this proposed AD, the regulatory evaluation, any comments received, and other information. The street address for the Docket Office (telephone (800) 647-5527) is in the ADDRESSES section. Comments will be available in the AD docket shortly after receipt.

FOR FURTHER INFORMATION CONTACT: Raymond Johnston, Aerospace Engineer, FAA, Small Airplane Directorate, 901 Locust, Room 301, Kansas City, Missouri 64106; telephone: (816) 329-4159; fax: (816) 329-3047; email: raymond.johnston@faa.gov.

SUPPLEMENTARY INFORMATION:

Comments Invited

We invite you to send any written relevant data, views, or arguments about this proposed AD. Send your comments to an address listed under the ADDRESSES section. Include “Docket No. FAA-2015-7777; Directorate Identifier 2015-CE-036-AD” at the beginning of your comments. We specifically invite comments on the overall regulatory, economic, environmental, and energy aspects of this proposed AD. We will consider all comments received by the closing date and may amend this proposed AD because of those comments.

We will post all comments we receive, without change, to http://regulations.gov, including any personal information you provide. We will also post a report summarizing each substantive verbal contact we receive about this proposed AD.

Discussion

On March 6, 2007, we issued AD 2007-06-06, Amendment 39-14987 (72 FR 12557; March 16, 2007). That AD required actions intended to address an unsafe condition on B-N Group Ltd. Models BN-2, BN-2A, BN-2A-2, BN-2A-3, BN-2A-6, BN-2A-8, BN-2A-9, BN-2A-20, BN-2A-21, BN-2A-26, BN-2A-27, BN-2B-20, BN-2B-21, BN-2B-26, BN-2B-27, BN2A MK. III, BN2A MK. III-2, BN2A MK. III-3 BN2A, BN2B, and BN2A MKIII (all models on TCDS A17EU and A29EU) airplanes and was based on mandatory continuing airworthiness information (MCAI) originated by an aviation authority of another country.

Since we issued AD 2007-06-06, there are reports of premature failures of the affected part number (P/N) DU130-24 pitot-static probes.

The European Aviation Safety Agency (EASA), which is the Technical Agent for the Member States of the European Community, has issued EASA AD No.: 2015-0199, dated October 7, 2015 (referred to after this as “the MCAI”), to correct the above-referenced unsafe condition for the specified products. The MCAI states:

In 2005, occurrences were reported of finding cracks in the inner shell of certain pitot/static pressure heads, Part Number (P/N) DU130-24.

This condition, if not detected and corrected, could lead to incorrect readings on the pressure instrumentation, e.g. altimeters, vertical speed indicators (rate-of-climb) and airspeed indicators, possibly resulting in reduced control of the aeroplane.

To address this potential unsafe condition, B-N Group issued Service Bulletin (SB) 310 to provide inspection and test instructions. Consequently, CAA UK issued AD G-2005-0034 (EASA approval 2005-6447) to require repetitive inspections and leak tests and, depending on findings, accomplishment of applicable corrective action(s).

Subsequently, B-N Group published SB 310 issue 2, prompting EASA to issue AD 2006-0143 making reference to SB 310 at issue 2, while the publication of BNA SB 310 issue 3 prompted EASA AD 2006-0143R1, introducing BNA modification (mod) NB-M-1728 (new pitot/static pressure head not affected by the AD requirements) as optional terminating action for the repetitive inspections and leak tests.

Since that AD was issued, operators have reported a number of premature failures of the affected P/N DU130-24 pitot-static probes.

Prompted by these reports, BNA issued SB 310 issue 4 to reduce the interval for the inspections and leak tests.

For the reason described above, this AD retains the requirements of EASA AD 2006-0143R1, which is superseded, but requires those actions at reduced intervals.

You may examine the MCAI on the Internet at http://www.regulations.gov by searching for and locating Docket No. FAA-2015-7777.

Related Service Information Under 1 CFR part 51

B-N Group Ltd. has issued Britten-Norman Service Bulletin Number SB 310, Issue 4, dated September 25, 2015. The service information describes procedures for inspections, and if necessary, replacement of the pitot/static pressure head. This service information is reasonably available because the interested parties have access to it through their normal course of business or by the means identified in the ADDRESSES section of this NPRM.

FAA's Determination and Requirements of the Proposed AD

This product has been approved by the aviation authority of another country, and is approved for operation in the United States. Pursuant to our bilateral agreement with this State of Design Authority, they have notified us of the unsafe condition described in the MCAI and service information referenced above. We are proposing this AD because we evaluated all information and determined the unsafe condition exists and is likely to exist or develop on other products of the same type design.

Differences Between the Proposed AD and the MCAI

The FAA has reviewed the MCAI and related service information and, in general, agree with their substance. The proposed AD does differ from the MCAI in that it does not reference BNA Mod NB-M-1728 as an optional terminating action for the repetitive inspections and leak tests. The FAA is unable to make these instructions reasonably available to interested parties so therefore we are unable to include this in the AD. After issuance of the final AD, the FAA will consider this modification as an alternative method of compliance (AMOC) to the AD provided it is submitted following the instructions in the AD and 14 CFR 39.19.

Costs of Compliance

We estimate that this proposed AD will affect 93 products of U.S. registry. We also estimate that it would take about 1 work-hour per product to comply with the basic requirements of this proposed AD. The average labor rate is $85 per work-hour.

Based on these figures, we estimate the cost of the proposed AD on U.S. operators to be $7,905, or $85 per product.

In addition, we estimate that any necessary follow-on actions would take about 2 work-hours and require parts costing $10,000, for a cost of $10,170 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-14987 (72 FR 12557; March 16, 2007) and adding the following new AD:

B-N Group Ltd.: Docket No. FAA-2015-7777; Directorate Identifier 2015-CE-036-AD.

(a) Comments Due Date

We must receive comments by February 8, 2016.

(b) Affected ADs

This AD supersedes AD 2007-06-06 (72 FR 12557; March 16, 2007).

(c) Applicability

This AD applies to B-N Group Ltd. BN-2, BN-2A, BN-2A-2, BN-2A-3, BN-2A-6, BN-2A-8, BN-2A-9, BN-2A-20, BN-2A-21, BN-2A-26, BN-2A-27, BN-2B-20, BN-2B-21, BN-2B-26, BN-2B-27, BN2A MK. III, BN2A MK. III-2, BN2A MK. III-3 BN2A, BN2B, and BN2A MKIII, BN2A, BN2B, and BN2A MKIII (all models on TCDS A17EU and A29EU) airplanes, all serial numbers, certificated in any category.

(d) Subject

Air Transport Association of America (ATA) Code 34: Navigation.

(e) Reason

This AD was prompted by cracks in the inner shell of certain pitot/static pressure heads. We are issuing this proposed AD to inspect the inner shell of certain pitot/static pressure heads for cracks, and replace if necessary.

(f) Actions and Compliance

Unless already done, do the following actions in paragraphs (f)(1) through (f)(4) of this AD:

(1) For airplanes equipped with pitot/static pressure head part number (P/N) DU130-24: Within 50 hours time-in-service (TIS) after the effective date of this AD and repetitively thereafter at intervals not to exceed 50 hours TIS, inspect the pitot/static pressure head for cracks and/or separation and perform a leak test following the procedures in the action section of Britten-Norman Service Bulleting SB 310, Issue 4, dated September 25, 2015.

(2) For airplanes equipped with pitot/static pressure head part number (P/N) DU130-24: If, during an inspection or test required in paragraph (f)(1) of this AD discrepancies are found, before further flight, replace the pitot/static pressure head with an airworthy part.

(3) For airplanes equipped with pitot/static pressure head part number (P/N) DU130-24: Corrections performed on airplanes as required in paragraph (f)(2) of this AD do not constitute terminating action for the repetitive actions required in paragraph (f)(1) of this AD.

(4) For airplanes not equipped with a pitot/static pressure head P/N DU130-24 on the effective date of this AD: After the effective date of this AD, do not install a pitot/static pressure head P/N DU130-24.

(g) Other FAA AD Provisions

The following provisions also apply to this AD:

(1) Alternative Methods of Compliance (AMOCs): The Manager, Standards Office, FAA, has the authority to approve AMOCs for this AD, if requested using the procedures found in 14 CFR 39.19. Send information to ATTN: Raymond Johnston, Aerospace Engineer, FAA, Small Airplane Directorate, 901 Locust, Room 301, Kansas City, Missouri 64106; telephone: (816) 329-4159; fax: (816) 329-3047; email: raymond.johnston@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(h) Related Information

Refer to MCAI European Aviation Safety Agency (EASA) AD No.: 2015-0199, dated October 7, 2015, for related information. You may examine the MCAI on the Internet at http://www.regulations.gov by searching for and locating Docket No. FAA-2015-7777. For service information related to this AD, contact Britten-Norman Aircraft Limited, Commodore House, Mountbatten Business Centre, Millbrook Road East, Southampton SO15 1HY, United Kingdom; telephone: +44 20 3371 4000; fax: +44 20 3371 4001; email: info@bnaircraft.com; Internet: http://www.britten-norman.com/customer-support/. You may review copies of the referenced service information at the FAA, Small Airplane Directorate, 901 Locust, Kansas City, Missouri 64106. For information on the availability of this material at the FAA, call (816) 329-4148.

Issued in Kansas City, Missouri, on December 11, 2015.
Pat Mullen,
Acting Manager, Small Airplane Directorate, Aircraft Certification Service.

[FR Doc. 2015-31850 Filed 12-23-15; 8:45 am]

BILLING CODE 4910-13-P